DEPARTMENT OF HOMELAND SECURITY

Coast Guard

[USCG-2013-1065]

Towing Safety Advisory Committee

AGENCY: Coast Guard, DHS.

ACTION: Notice of teleconference meeting.

SUMMARY: The Towing Safety Advisory Committee (TSAC) will meet via teleconference to present and discuss its final report on Recommendations for the Improvement of Automatic Identification System Encoding for Towing Vessels, receive status reports from nine TSAC subcommittees, and consider a topic of interest to the committee. This meeting will be open to the public.

DATES: The teleconference will take place on Tuesday, February 25, 2014, from 1 p.m. to 3 p.m. EST. This meeting may close early if all business is finished. If you wish to make oral comments at the teleconference, notify Mr. Ken Doyle before the teleconference, as specified in the FOR FURTHER INFORMATION CONTACT section, or the designated Coast Guard staff at the meeting. If you wish to submit written comments or make a presentation, submit your comments or request to make a presentation by February 18, 2014.

ADDRESSES: The Committee will meet via teleconference. To participate by phone, please contact Mr. Ken Doyle listed below in the FOR FURTHER INFORMATION CONTACT section to obtain teleconference information. Note the number of teleconference lines is limited and will be available on a first-come, first-served basis. To come to the host location in person and join those participating in this teleconference from U.S. Coast Guard Headquarters, 2703 Martin Luther King Jr. Ave. SE., Washington, DC 20593-7509, please contact Mr. Ken Doyle, listed in the FOR FURTHER INFORMATION CONTACT section to request directions and building access. You must request building access by February 18, 2014, and present a valid, government-issued photo identification to gain entrance to the Coast Guard Headquarters building.

For information on facilities or services for individuals with disabilities or to request special assistance at the teleconference, contact Mr. Ken Doyle listed in the FOR FURTHER INFORMATION CONTACT section, as soon as possible.

If you want to make a presentation, send your request by February 18, 2014, to Mr. Ken Doyle, listed in the FOR FURTHER INFORMATION CONTACT section. To facilitate public participation we are inviting public comment on the issues to be considered by the committee as listed in the “Agenda” section below. You may submit a written comment on or before February 18, 2014 or make an oral comment during the public comment portion of the teleconference.

To submit a comment in writing, use one of the following methods:

• Federal eRulemaking Portal: http://www.regulations.gov. Follow the instructions for submitting comments.

• Email: Kenneth.J.Doyle@uscg.mil. Include the docket number (USCG-2013-1065) on the subject line of the message.

• Fax: (202) 372-8283. Include the docket number (USCG-2013-1065) on the subject line of the fax.

• Mail: Docket Management Facility (M-30), U.S. Department of Transportation, West Building Ground Floor, Room W12-140, 1200 New Jersey Avenue SE., Washington, DC 20590-0001.

• Hand Delivery: Same as mail address above, between 9 a.m. and 5 p.m., Monday through Friday, except Federal holidays. The telephone number is 202-366-9329.

• To avoid duplication, please use only one of these methods.

Instructions: All submissions received must include the words “Department of Homeland Security” and the docket number for this notice. All comments received will be posted without alteration at http://www.regulations.gov, including any personal information provided. You may review a Privacy Act notice regarding our public dockets in the January 17, 2008, issue of the Federal Register (73 FR 3316).

Docket: For access to the docket to read documents or comments related to this Notice, go to http://www.regulations.gov, insert USCG-2013-1065 in the Search box, press Enter, and then click on the item you wish to view.

FOR FURTHER INFORMATION CONTACT: Commander Robert Smith, Designated Federal Official (DFO) of TSAC, Commandant (CG-OES-2), U.S. Coast Guard, 2703 Martin Luther King Jr. Ave. SE., Stop 7509, Washington, DC 20593-7509; telephone (202) 372-1410, fax (202) 372-8283, or Mr. Ken Doyle, Alternate Designated Federal Official (ADFO) of TSAC, Commandant (CG-OES-2), U.S. Coast Guard, 2703 Martin Luther King Jr. Ave. SE., Stop 7509, Washington, DC 20593-7509; telephone (202) 372-1421, fax (202) 372-8283. If you have questions on viewing or submitting material to the docket, call Cheryl Collins, Program Manager, Docket Operations, telephone 202-366-9826.

SUPPLEMENTARY INFORMATION: Notice of this meeting is given under the Federal Advisory Committee Act (FACA), 5 U.S.C. Appendix. (Pub. L. 92-463). As stated in 33 U.S.C. 1231a, the Towing Safety Advisory Committee provides advice and recommendations to the Department of Homeland Security on matters relating to shallow-draft inland and coastal waterway navigation and towing safety.

Agenda of Meeting

The agenda for the February 25, 2014, teleconference includes:

(1) Presentation of the draft final report on Recommendations for the Improvement of Automatic Identification System Encoding for Towing Vessels (AIS)—Task #13-01.

(2) Status updates from the following Subcommittees:

(a) Recommendations Regarding Manning of Inspected Towing Vessels—Task #13-02.

(b) Recommendations to Create Standardized Terminology for the Towing Industry—Task #13-03.

(c) Recommendations for Evaluating Placement of Structures Adjacent to or Within the Navigable Channel—Task #13-04.

(d) Recommendations for Designation of Narrow Channels—Task #13-05.

(e) Recommendations for the Maintenance, Repair and Utilization of Towing Equipment, Lines and Couplings—Task #13-06.

(f) Recommendations Regarding Steel Repair of Inspected Towing Vessels on Inland Service—Task #13-07.

(g) Recommendations For Mid-Stream Liquefied Natural Gas and Compressed Natural Gas Refueling of Towing Vessels—Task #13-08.

(h) Review of Coast Guard marine casualty reporting requirements and revision of Forms CG-2692—Report of Marine CASUALTY; CG-2692A—Barge Addendum; and CG-2692B—REPORT OF REQUIRED CHEMICAL DRUG AND ALCOHOL TESTING FOLLOWING A SERIOUS MARINE INCIDENT—Task #13-09.

(i) Recommendation to Establish Criteria for Identification of Air Draft for Towing Vessels and Tows—Task #13-10.

(3) Presentation and discussion on cyber security awareness.

(4) TSAC member comments.

(5) Public comments.

There will be a comment period for TSAC and a comment period for public after each report, but before each recommendation is formulated. The committee will review the information presented on each issue, deliberate on any recommendations presented in the subcommittees' reports, and formulate recommendations for the Department's consideration. A copy of each draft report and the final agenda will be available at https://homeport.uscg.mil/tsac.

During the February 25, 2014 teleconference, the public comment period will be from approximately 2:45 p.m. to 3 p.m. Speakers are requested to limit their comments to three minutes. Please note that this public comment period may start before 2:45 p.m. if all other agenda items have been covered and may end before 3 p.m. if all of those wishing to comment have done so. Please contact Mr. Ken Doyle, listed in the FOR FURTHER INFORMATION CONTACT section to register as a speaker.

Minutes

Minutes from the meeting will be available for public review and copying within 30 days following the meeting at https://homeport.uscg.mil/tsac.

Notice of Future 2014 TSAC Meetings

To receive automatic email notices of future TSAC meetings in 2014, go to the online docket, USCG-2013-1065 (http://www.regulations.gov/#!docketDetail;D=USCG-2013-1065), and select the sign-up-for-email-alerts option. We plan to use the same docket number for all TSAC meetings notice in 2014, so when the next meeting notice is published you will receive an email alert from www.regulations.gov when the notice appears in this docket.

Dated: January 29, 2014.
J.G. Lantz,
Director of Commercial Regulations and Standards.

[FR Doc. 2014-02220 Filed 2-3-14; 8:45 am]

BILLING CODE 9110-04-P